DEPARTMENT OF THE INTERIOR

Bureau of Reclamation

North of the Delta Offstream Storage, California

AGENCY: Bureau of Reclamation, Interior.

ACTION: Notice of intent to prepare an environmental impact report/environmental impact statement (EIR/EIS).

SUMMARY: The Bureau of Reclamation (Reclamation) intends to participate with the California Department of Water Resources (DWR) in the North of the Delta Offstream Storage (NDOS). Pursuant to the National Environmental Policy Act (NEPA) of 1969 (as amended), and the California Environmental Quality Act (CEQA), Reclamation and DWR propose to prepare a joint (EIR/EIS) for the NDOS. NDOS will evaluate potential surface storage north of the Delta in the Sacramento Valley watershed. The CALFED Programmatic Environmental Impact Statement/Report (PEIS/PEIR) and Record of Decision (ROD) identified the NDOS. Reclamation will use the results of this environmental analysis and other studies to seek Congressional authority as necessary for implementation of the preferred alternative.

DATES: Reclamation and DWR will hold three scoping meetings to seek public input on alternatives, concerns, and issues to be addressed in the EIR/EIS. The dates are:

• January 8, 2002, 1 to 4 p.m, Sacramento, California

• January 9, 2002, 6 to 9 p.m., Maxwell, California

• January 15, 2002, 6 to 9 p.m., Fresno, California

Written comments on the scope of alternatives and impacts to be considered should be sent to DWR at the address below by Friday, January 25, 2002.

ADDRESSES: Meeting locations are:

• Sacramento at the Bonderson Building Hearing Room, 901 P Street

• Maxwell at the Maxwell Inn, 81 Oak Street

• Fresno at the Piccadilly Inn—University, 4961 N. Cedar

Written comments on the scope of the EIR/EIS should be sent to Scott D. Woodland, P.E., Department of Water Resources, Division of Planning and Local Assistance, PO Box 942836, Sacramento, CA 94236, or faxed to (916) 651-9289.

FOR FURTHER INFORMATION CONTACT: Scott Woodland at (916) 651-9278, or email at woodland@water.ca.gov; or Donna Garcia, Bureau of Reclamation, Division of Planning, 2800 Cottage Way, Sacramento, CA, telephone: (916) 978-5009.

SUPPLEMENTARY INFORMATION:

Sacramento Valley Resources

Roughly three-quarters of California's runoff occurs north of Sacramento, while about three-quarters of California's water is used south of Sacramento. This imbalance in the location of water supply and demand has continually placed pressure on the Sacramento Valley watersheds. In recent years, demand for water supply has grown, not only due to increased population but also due to efforts to protect California's water quality and its ecological resources. To better manage Sacramento Valley water resources, the water supply system requires new infrastructure, regulatory stability, and increased system flexibility.

CALFED

The CALFED Bay-Delta Program (CALFED) is a cooperative, interagency effort of 23 State and Federal agencies established to develop and implement a long-term comprehensive plan that will restore ecological health and improve water management for beneficial uses of the Bay-Delta system and its tributary watersheds. These watersheds include the Sacramento Valley and watersheds located south of the Delta that use water from the Sacramento Valley in addition to local water supplies.

The CALFED agencies completed the PEIS/PEIR process in July 2000 and filed the ROD in August 2000. The PEIS/PEIR concluded a process of broad environmental analysis that evaluated a wide range of concepts. The ROD sets forth the Preferred Program Alternative and the strategy for implementation of that alternative. The descriptions of the alternatives are programmatic in nature, defining broad approaches to meet Program purposes. The Preferred Program Alternative includes eight program elements: Levee System Integrity, Water Quality, Ecosystem Restoration, Water Use Efficiency, Water Transfer, Watershed, Conveyance, and Storage. The ROD states: “Expanding water storage capacity is critical to the successful implementation of all aspects of the CALFED Program. Not only is additional storage needed to meet the needs of a growing population but, if strategically located, it will provide much needed flexibility in the system to improve water quality and support fish and wildlife restoration efforts. Water supply reliability depends upon capturing water during peak flows and during wet years, as well as more efficient water use through conservation and recycling.”(ROD, page 42).

Associated Programs

In addition to the CALFED Stage 1 actions to expand surface and groundwater storage, there are several Northern Sacramento Valley programs under way that are expected to contribute to water supply reliability or habitat restoration. Development and evaluation of alternatives for augmenting storage and system flexibility in the northern Sacramento Valley will consider the potential outcomes and information from the CALFED Integrated Storage Investigations' Groundwater/Conjunctive Use program and Onstream Storage Enlargement (Enlarged Shasta) investigation and from other Sacramento Valley water management programs. Some of the larger programs include:

• Sacramento Valley Agreement (Phase 8 Bay-Delta Settlement Agreement)

• Sacramento Valley Basinwide Management Plan

• CALFED Ecosystem Restoration Program Sacramento River Conservation Area (SB 1086)

• Sacramento/San Joaquin River Comprehensive Study

North of the Delta Offstream Storage

The CALFED ROD specified two actions to be completed before deciding whether to proceed with offstream storage north of the Bay-Delta. The first was to create a partnership with local water interests and the second was to complete environmental review and planning documentation for a reservoir with a capacity of up to 1.9 MAF by August 2004. DWR and Reclamation have completed the first of these directives and are working on the second. In order to comply with all environmental laws, DWR and Reclamation will examine a broad range of alternatives in an open and inclusive process. The investigation will analyze alternatives in terms of how well they meet the objectives described below and their beneficial and adverse impacts.

Objectives

The ROD gives direction on objectives for north of the Delta offstream storage:

• Enhance water management flexibility in the Sacramento Valley.

• Reduce water diversion on the Sacramento River during critical fish migration periods.

• Increase reliability of supplies for a portion of the Sacramento Valley.

• Provide storage and operational benefits for other CALFED programs including Delta water quality and the EWA.

Possible Alternatives

Since this EIR/EIS will be a tiered document from the CALFED PEIS/PEIR, the scope of alternatives will be limited to issues directly associated with water storage located north of the Delta. The following possible alternatives for the NDOS have been identified, and will be included in the alternative analysis along with other alternatives developed during the scoping process. The alternatives evaluated in the EIR/EIS will include consideration of CALFED Stage 1 actions as defined in the ROD:

1. No Project (Present Condition)

This alternative would be defined as present conditions when the Notice of Preparation and Notice of Intent are filed, and without a north of the Delta offstream storage project. Neither the potential environmental benefits nor adverse effects would occur.

2. No Action (Future Condition)

The No Action Alternative is a description of the anticipated physical, project operation, and regulatory features that would be in place in 2020 without a north of the Delta offstream storage project. The No Action Alternative is used as a basis for comparison of the project alternatives in 2020.

3. Sites Reservoir Alternative

This alternative would consist of an offstream reservoir with a capacity of up to 1.9 million acre-feet in size and would be located approximately 10 miles west of Maxwell. The reservoir would inundate the community of Sites and most of Antelope Valley. The main dams would be constructed on Funks Creek and on Stone Corral Creek. Up to nine saddle dams would be needed. This alternative will be evaluated with different levels of conjunctive use.

Source and conveyance options for this reservoir include:

a. The use of the Glenn-Colusa Irrigation District Diversion and Canal, either in its current capacity or in an enlarged capacity.

b. The use of the Tehama-Colusa diversion and canal in its current capacity or in an enlarged capacity.

c. A new diversion and conveyance facility from the Sacramento River near Moulton Weir.

d. A new conveyance facility from the Colusa Basin Drain. Diversions and conveyance tunnels from East Park Reservoir and/or Stony Gorge Reservoir.

e. A combination of these options.

New or existing delivery facilities from the reservoir would be required, depending on the beneficial uses served.

4. Newville Reservoir Alternative

This alternative would consist of an offstream reservoir with a capacity between 1.9 million and 3.0 million acre-feet in size and would be located approximately 18 miles west of the City of Orland. A single earth embankment dam on North Fork Stony Creek along with various saddle dams would create the impoundment area. Since North Fork Stony Creek is a very small drainage area, diversion and conveyance facilities would be needed. This alternative will be evaluated with different levels of conjunctive use. The following options are being considered.

a. Stony Creek Diversion which would move water from Black Butte Lake to the Reservoir by canal via a new, smaller reservoir, Tehenn Reservoir. Tehenn Reservoir would serve as a forebay/afterbay to the Newville Reservoir.

b. A direct canal from Black Butte Reservoir to Newville to avoid an historical cemetery.

c. A diversion from nearby Thomes Creek which has an annual runoff of approximately 200,000 acre-feet. This diversion would require a small dam and a pipeline over a ridge that separates the creek from Newville Reservoir.

d. Diversion and conveyance facility from the Sacramento River.

e. A combination of the above options.

New or existing delivery facilities from the reservoir would be required, depending on the beneficial uses served.

5. Other Possible Alternatives

As stated earlier, storage projects are not to be developed in isolation but rather as part of an overall water management strategy. Thus, this EIR/EIS will evaluate whether other possible alternatives meet the NDOS objectives. Two possible alternatives include the conjunctive use and enlarged Shasta programs mentioned in the above Associated Programs section. These could be evaluated as stand-alone alternatives or as sub-alternatives operated in conjunction with north of the Delta offstream storage to optimize system flexibility and efficiency.

These and other possible alternatives will be considered and developed through comments received during the scoping process. During scoping, DWR and Reclamation will be seeking input about possible methods for evaluating conjunctive water management that will meet CALFED criteria for local management of conjunctive use projects.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 26, 2001.
Frank Michny,
Regional Environmental Officer.

[FR Doc. 01-28138 Filed 11-8-01; 8:45 am]

BILLING CODE 4310-MN-P